DEPARTMENT OF TRANSPORTATION

Notice of Final Federal Agency Actions on Proposed Highway Projects in Texas

AGENCY: Texas Department of Transportation (TxDOT), Federal Highway Administration (FHWA), U.S. Department of Transportation.

ACTION: Notice of limitation on claims for judicial review of actions by TxDOT and Federal agencies.

SUMMARY: This notice announces actions taken by TxDOT and Federal agencies that are final. The environmental review, consultation, and other actions required by applicable Federal environmental laws for these projects are being, or have been, carried-out by TxDOT and a Memorandum of Understanding dated December 16, 2014, and executed by FHWA and TxDOT. The actions relate to various proposed highway projects in the State of Texas. Those actions grant licenses, permits, and approvals for the projects.

DATES: By this notice, TxDOT is advising the public of final agency actions subject to 23 U.S.C. 139(l)(1). A claim seeking judicial review of TxDOT and Federal agency actions on the highway project will be barred unless the claim is filed on or before February 25, 2019. If the Federal law that authorizes judicial review of a claim provides a time period of less than 150 days for filing such a claim, then that shorter time period still applies.

FOR FURTHER INFORMATION CONTACT: Carlos Swonke, Environmental Affairs Division, Texas Department of Transportation, 125 East 11th Street, Austin, Texas 78701; telephone: (512) 416-2734; email: carlos.swonke@txdot.gov. TxDOT's normal business hours are 8:00 a.m.-5:00 p.m. (central time), Monday through Friday.

SUPPLEMENTARY INFORMATION: Notice is hereby given that TxDOT and Federal agencies have taken final agency actions by issuing licenses, permits, and approvals for the highway projects in the State of Texas that are listed below.

The actions by TxDOT and Federal agencies and the laws under which such actions were taken are described in the Categorical Exclusion (CE) or Environmental Assessment (EA) issued in connection with the projects and in other key project documents. The CE or EA, and other key documents for the listed projects are available by contacting TxDOT at the address provided above.

This notice applies to all TxDOT and Federal agency decisions as of the issuance date of this notice and all laws under which such actions were taken, including but not limited to:

1. General: National Environmental Policy Act (NEPA) [42 U.S.C. 4321-4351]; Federal-Aid Highway Act [23 U.S.C. 109].

2. Air: Clean Air Act, 42 U.S.C. 7401-7671(q).

3. Land: Section 4(f) of the Department of Transportation Act of 1966 [49 U.S.C. 303]; Landscaping and Scenic Enhancement (Wildflowers), 23 U.S.C. 319.

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [54 U.S.C. 300101 et seq.]; Archeological Resources Protection Act of 1977 [16 U.S.C. 470(aa)-11]; Archeological and Historic Preservation Act [54 U.S.C. 312501 et seq.]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act, 33 U.S.C. 1251-1377 (Section 404, Section 401, Section 319); Land and Water Conservation Fund (LWCF), 16 U.S.C. 4601-4604; Safe Drinking Water Act (SDWA), 42 U.S.C. 300(f)-300(j)(6); Rivers and Harbors Act of 1899, 33 U.S.C. 401-406; Wild and Scenic Rivers Act, 16 U.S.C. 1271-1287; Emergency Wetlands Resources Act, 16 U.S.C. 3921, 3931; TEA-21 Wetlands Mitigation, 23 U.S.C. 103(b)(6)(m), 133(b)(11); Flood Disaster Protection Act, 42 U.S.C. 4001-4128.

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species. (Catalog of Federal Domestic Assistance Program Number 20.205, Highway Planning and Construction.)

The projects subject to this notice are:

1. I-10 Connect, from Yandell Drive to Loop 375 (Cesar Chavez Border Highway) in El Paso County. This project will construct or modify six direct connectors between I-10 and various other highways and one direct connector from U.S. 54 to I-110, and would reconfigure the I-110/U.S. 62 (Paisano Drive) interchange. The six I-10 direct connectors are Eastbound I-10 to Southbound U.S. 54 Direct Connector, Eastbound Loop 375 (Cesar Chavez Border Highway) to Eastbound I-10 Direct Connector, Westbound I-10 to Southbound U.S. 54 Direct Connector, Southbound U.S. 54 to Westbound I-110 Direct Connector, Eastbound I-10 to Westbound I-110 Direct Connector, Westbound I-10 to Westbound I-110 Direct Connector. Along with these improvements, the proposed project would also include reconfiguring some of the merging lanes along I-110 and U.S. 54. The proposed improvements would require 0.14 acre of additional right-of-way and approximately 0.81 acre of temporary construction easements. The actions by TxDOT and Federal agencies and the laws under which such actions were taken are described in the Final Environmental Assessment (EA) approved on August 23, 2018, the Finding of No Significant Impact (FONSI) issued on August 28, 2018, and other documents in the TxDOT project file. The EA, FONSI and other documents in the TxDOT project file are available by contacting TxDOT at the address provided above or the TxDOT El Paso District, 13301 Gateway West, El Paso, Texas 79928; telephone (915) 790-4340. The Final EA and FONSI can also be viewed and downloaded from the following website: https://www.txdot.gov/inside-txdot/projects/studies/el-paso/i10-connect.html.

2. Zaragoza Port-of-Entry, Pan American Drive & Winn Road Build Improvements, TxDOT El Paso District with Camino Real Regional Mobility Authority and the City of El Paso, El Paso County. The proposed project would consist of widening the existing Winn Road between Pan American Drive and Southside Road to a 90-foot-wide four-lane divided facility with concrete pavement, raised medians, sidewalks, illumination, and drainage improvements. The proposed project would also involve construction of a new location roadway extension heading west and then north from Southside Road to connect the existing Winn Road to Rio Del Norte Drive. Proposed improvements to Pan American Drive would entail adding raised medians where none exist, adding illumination, landscaping, resurfacing the existing pavement, and restriping to four lanes. The actions by TxDOT and Federal agencies and the laws under which such actions were taken are described in the Final Environmental Assessment (EA) approved on August 15, 2018, the Finding of No Significant Impact (FONSI) issued on August 15, 2018, and EA, FONSI, and other documents in the TxDOT project file are available by contacting TxDOT at the address provided above or the TxDOT El Paso District Office, 13301 Gateway Blvd. West, El Paso, Texas 79928; telephone 915-790-4340. The Final EA and FONSI can also be viewed and downloaded from the following website: https://www.elpasotexas.gov/capital-improvement.

3. Amistad Acres Road, Val Verde County. The project would replace an existing 2.6 mile unpaved road (known as Holman Road) by constructing an approximately 2.0 mile paved roadway consisting of two 10-foot wide travel lanes and two 4-foot wide shoulders (28 feet total pavement width) from Box Canyon Road to the Amistad Acres Subdivision near the Amistad Reservoir, northwest of Del Rio, in Val Verde County, Texas. The proposed roadway would include a portion of the current access roadway for approximately 0.7 miles, and a section of new location roadway for approximately 1.3 miles. The actions by the TxDOT and Federal agencies and the laws under which such actions were taken are described in the Final Environmental Assessment (EA) approved on June 9, 2015, in the Finding of No Significant Impact (FONSI) issued on June 12, 2015, and in documents in the TxDOT administrative record. The EA, FONSI, and other documents in the TxDOT administrative record are available by contacting TxDOT at the addresses provided above or the TxDOT Laredo District Office, 1817 Bob Bullock Loop, Laredo, TX 78043; telephone (956) 712-7400.

4. I-35 Northeast Expansion Project in Bexar, Comal and Guadalupe Counties. The project includes the construction of four elevated managed lanes (two in each direction) generally between the existing I-35 main lanes and frontage roads along I-35 from I-410 South in San Antonio to FM 1103 in Schertz. Direct connectors at the I-35/I-410 South, I-35/I-410 West and I-35/Loop 1604 interchanges and operational improvements at the FM 2252, Old Wiederstein Road, and FM 1103 intersections are also included. The project is approximately 15.4 miles in length. The actions by TxDOT and Federal agencies and the laws under which such actions were taken are described in the Final EA approved on July 2, 2015, the Finding of No Significant Impact (FONSI) issued on July 2, 2015 and other documents in the TxDOT project file. The EA, FONSI and other documents in the TxDOT project file are available by contacting TxDOT at the address provided above or the TxDOT San Antonio District Office, 4615 NW Loop 410, San Antonio, TX 78229; telephone (210) 615-5839.

5. FM 1626 from RM 967 to FM 2770, Hays County. The build alternative consists of four 12-foot-wide travel lanes (two in each direction), a 14-foot-wide center left turn lane, and outside shoulders of varying widths. The project also includes improvements to the bridges at Onion Creek and Mustang Branch. The project is approximately 3.3 miles in length. The actions by TxDOT and Federal agencies and the laws under which such actions were taken are described in the Final EA approved on July 1, 2015, the Finding of No Significant Impact (FONSI) issued on July 1, 2015, and other documents in the TxDOT project file. The EA, FONSI and other documents in the TxDOT project file are available by contacting TxDOT at the address provided above or the TxDOT Austin District Office, 7901 North I-35, Austin, TX 78753; telephone (512) 832-7000.

6. FM 1626 from Brodie Lane to Manchaca Road (FM 2304), Travis County. The build alternative consists of four 12-foot-wide travel lanes (two in each direction) separated by a continuous left turn lane. The continuous left turn lane would range in width from 14 feet (usual) to 23.5 feet at the intersection with Brodie Lane. The project is approximately 1.3 miles in length. The actions by TxDOT and Federal agencies and the laws under which such actions were taken are described in the Final EA approved on February 24, 2016, the Finding of No Significant Impact (FONSI) issued on February 24, 2016, and other documents in the TxDOT project file. The EA, FONSI and other documents in the TxDOT project file are available by contacting TxDOT at the address provided above or the TxDOT Austin District Office, 7901 North I-35, Austin, TX 78753; telephone (512) 832-7000.

7. US 183 from US 290 to SH 71, Travis County. The project would include six tolled main lanes and four to six non-tolled access road lanes. Direct connections to SH 71 west of US 183 would be tolled and would provide two lanes of travel in each direction. Throughout the corridor, a shared use path, bike lanes and sidewalks are included. The project is approximately 8 miles in length. The actions by TxDOT and Federal agencies and the laws under which such actions were taken are described in the Final EA approved on March 6, 2015, the Finding of No Significant Impact (FONSI) issued on March 6, 2015, and other documents in the TxDOT project file. The EA, FONSI and other documents in the TxDOT project file are available by contacting TxDOT at the address provided above or the TxDOT Austin District Office, 7901 North I-35, Austin, TX 78753; telephone (512) 832-7000.

8. Callaghan Road from IH 410 to Spur 421 (Bandera Road) in Bexar County. The project includes widening Callaghan Road to a four-lane roadway with a continuous left center turn lane, including the installation of curbs, sidewalks and a shared-use path. The project is approximately 1.1 miles in length. The actions by TxDOT and Federal agencies and the laws under which such actions were taken are described in the Final EA approved on July 1, 2015, the Finding of No Significant Impact (FONSI) issued on July 1, 2015 and other documents in the TxDOT project file. The EA, FONSI and other documents in the TxDOT project file are available by contacting TxDOT at the address provided above or the TxDOT San Antonio District Office, 4615 NW Loop 410, San Antonio, TX 78229; telephone (210) 615-5839.

9. FM 1560 from SH 16 to Loop 1604 in Bexar County. The project would widen this section of FM 1560 from two to four lanes, including a center turn lane, raised medians at the approaches to SH 16 and Loop 1604, bike lanes, and sidewalks. The project is approximately 2 miles in length. The actions by TxDOT and Federal agencies and the laws under which such actions were taken are described in the Final EA approved on July 2, 2015, the Finding of No Significant Impact (FONSI) issued on July 2, 2015 and other documents in the TxDOT project file. The EA, FONSI and other documents in the TxDOT project file are available by contacting TxDOT at the address provided above or the TxDOT San Antonio District Office, 4615 NW Loop 410, San Antonio, TX 78229; (210) 615-5839.

10. FM 1516 from FM 78 to FM 1976 in Bexar County. The project includes reconstructing existing FM 1516 to four main lanes with bike lanes, a continuous center turn lane, adding sidewalks, constructing a storm sewer system between FM 78 and Gibbs Sprawl Road/FM 3502, and extending FM 1516 from the Gibbs Sprawl Road/FM 3502 intersection to FM 1976 at Hilltop Avenue. The project is approximately 0.76 mile in length. The actions by TxDOT and Federal agencies and the laws under which such actions were taken are described in the Final EA approved on February 17, 2015, the Finding of No Significant Impact (FONSI) issued on February 17, 2015 and other documents in the TxDOT project file. The EA, FONSI and other documents in the TxDOT project file are available by contacting TxDOT at the address provided above or the TxDOT San Antonio District Office, 4615 NW Loop 410, San Antonio, TX 78229; telephone (210) 615-5839.

11. FM 664 from Westmoreland Road to IH 35E in Ellis County, Texas. The proposed improvements would include the expansion of the existing facility from a two-lane rural roadway to a six-lane urban, divided roadway. The project also includes bicycle and pedestrian accommodations. The length of the proposed project is approximately 3.13 miles. The purpose of the proposed project is to improve mobility and safety and manage congestion. The actions by TxDOT and Federal agencies and the laws under which such actions were taken are described in the Final Environmental Assessment (EA) approved on June 10, 2015, Finding of No Significant Impact (FONSI) issued on June 10, 2015, and other documents in the TxDOT project file. The EA and other documents in the TxDOT project file are available by contacting TxDOT at the address provided above or the TxDOT Dallas District Office, 4777 E Highway 80, Mesquite, TX 75150; telephone (214) 320-4480.

12. FM 3549 from IH 30 to North of SH 66 in Rockwall County, Texas. The proposed improvements would include widening the existing two-lane rural roadway to a four-lane urban section. The project would consist of a four-lane urban divided section with selected left-turn lanes. The proposed typical section provides one additional 12-foot travel lane, one 14-foot multipurpose lane for bicycle use, and 2-foot offset to a concrete curb. A raised median is also provided to control ingress and egress. The length of the proposed project is approximately 1.3 miles. The actions by TxDOT and Federal agencies and the laws under which such actions were taken are described in the Final Environmental Assessment (EA) approved on March 8, 2016, Finding of No Significant Impact (FONSI) issued on March 8, 2016, and other documents in the TxDOT project file. The EA and other documents in the TxDOT project file are available by contacting TxDOT at the address provided above or the TxDOT Dallas District Office, 4777 E. Highway 80, Mesquite, TX 75150; telephone (214) 320-4480.

13. IH 20 from SH 161/Lake Ridge Parkway to FM 1382/Belt Line Road in Dallas County, Texas. The proposed improvements would include the construction of new frontage roads and ramps; reconstruction and reconfiguration of the intersections at Robinson Road and Carrier Parkway; reconstruction and reconfiguration of a section of Westchase Drive south of IH 20; construction of U-turns at Carrier Parkway and Belt Line Road; and other improvements along IH 20. The length of the proposed project is approximately 2.318 miles. The actions by TxDOT and Federal agencies and the laws under which such actions were taken are described in the Final Environmental Assessment (EA) approved on November 2, 2015, Finding of No Significant Impact (FONSI) issued on November 2, 2015, and other documents in the TxDOT project file. The EA and other documents in the TxDOT project file are available by contacting TxDOT at the address provided above or the TxDOT Dallas District Office, 4777 E Highway 80, Mesquite, TX 75150; telephone (214) 320-4480.

14. Medical District Drive from IH 35 to Harry Hines Boulevard in Dallas County, Texas. The proposed improvements would include the reconstruction and widening of the current Medical District Drive from a four-lane section to a six-lane divided thoroughfare with turn lanes. The project also proposes to relocate a driveway providing access to the Trinity Railway Express station and to construct right and left-turn lanes from Medical District Drive. The length of the proposed project is approximately 1,380 feet. The actions by TxDOT and Federal agencies and the laws under which such actions were taken are described in the Final Environmental Assessment (EA) approved on April 2, 2015, Finding of No Significant Impact (FONSI) issued on April 2, 2015, and other documents in the TxDOT project file. The EA and other documents in the TxDOT project file are available by contacting TxDOT at the address provided above or the TxDOT Dallas District Office, 4777 E Highway 80, Mesquite, TX 75150; telephone (214) 320-4480.

15. SH 276 from SH 205 to East of FM 549 in Rockwall County, Texas. The proposed improvements would include widening SH 276 from a two-lane rural roadway to a four-lane divided urban arterial that would ultimately accommodate a six-lane divided with urban minor arterial. The limits of the widening begin at the intersection of the realignment with the existing alignment at Wildrose Drive and continues east to approximately FM 549. SH 276 would be realigned between SH 205 and Wildrose Drive through an existing reserved roadway corridor. The existing SH 205/SH 276 intersection would be relocated to Sids Road, approximately 0.5 miles south of its current location. SH 276 would accommodate one 11-foot travel lane and one 14-foot shared use lane in each direction, a 40-foot median, and five-foot sidewalks with two-foot buffers on each side of the roadway. The proposed section would also accommodate an ultimate six-lane facility. The length of the proposed project is approximately 1.96 miles. The actions by TxDOT and Federal agencies and the laws under which such actions were taken are described in the Final Environmental Assessment (EA) approved on February 24, 2016, Finding of No Significant Impact (FONSI) issued on February 24, 2016, and other documents in the TxDOT project file. The EA and other documents in the TxDOT project file are available by contacting TxDOT at the address provided above or the TxDOT Dallas District Office, 4777 E. Highway 80, Mesquite, TX 75150; telephone (214) 320-4480.

16. U.S. 80 from Interstate IH 635 to Galloway Avenue and IH 635 from South of Gross Road to Eastbound U.S. 80 Frontage Road in Dallas County, Texas. The proposed U.S. 80 improvements would include reconstruction of the eastbound frontage road and relocation of the North Galloway Avenue exit ramp; and the improvements to IH 635 would include the addition of a new northbound frontage road and the widening of the exit ramp at Gross Road. The actions by TxDOT and Federal agencies and the laws under which such actions were taken are described in the Final Environmental Assessment (EA) approved on December 28, 2015, Finding of No Significant Impact (FONSI) issued on December 28, 2015, and other documents in the TxDOT project file. The EA and other documents in the TxDOT project file are available by contacting TxDOT at the address provided above or the TxDOT Dallas District Office, 4777 E Highway 80, Mesquite, TX 75150; telephone (214) 320-4480.

17. U.S. 287 from SH 34 to IH 45 in Ellis County, Texas. The proposed improvements would include the reconstruction and widening of U.S. 287 to accommodate the addition of mainlanes, ramps, and frontage road lanes throughout the project limits. The proposed project would also include the addition of grade-separated intersections as well as entrance and exit ramps along the existing facility. The length of the proposed project is approximately 4.51 miles. The actions by TxDOT and Federal agencies and the laws under which such actions were taken are described in the Final Environmental Assessment (EA) approved on July 8, 2015, Finding of No Significant Impact (FONSI) issued on July 8, 2015, and other documents in the TxDOT project file. The EA and other documents in the TxDOT project file are available by contacting TxDOT at the address provided above or the TxDOT Dallas District Office, 4777 E Highway 80, Mesquite, TX 75150; telephone (214) 320-4480.

18. U.S. 377 from Henrietta Creek Road to SH 114 in Denton County, Texas. The proposed improvements would include the reconstruction and widening of U.S. 377 from a two-lane rural section to a four-lane divided urban section with a raised median between Henrietta Creek Road and James Street. The project would also construct left-turn bays at Crockett, Denton, and Main Streets. The length of the proposed project is approximately one mile. The actions by TxDOT and Federal agencies and the laws under which such actions were taken are described in the Final Environmental Assessment (EA) approved on August 6, 2015, Finding of No Significant Impact (FONSI) issued on August 6, 2015, and other documents in the TxDOT project file. The EA and other documents in the TxDOT project file are available by contacting TxDOT at the address provided above or the TxDOT Dallas District Office, 4777 E Highway 80, Mesquite, TX 75150; telephone (214) 320-4480.

19. Max Road from FM 518 to Hughes Ranch Road, Brazoria County. This project would widen Max Road from a two-lane undivided roadway with open ditches to a four-lane divided boulevard facility with curb and gutter. A portion of the project would be on new location to connect Max Road to the current terminus of Reid Boulevard, just north of FM 518. A cul-de-sac is proposed on existing Max Road approximately 875 feet north of FM 518. Included in the project is construction of a shared-use hike and bike trail along the west side of the roadway, new twin bridge structures at Hickory Slough, improved drainage including a detention pond, and a traffic signal at Hughes Ranch Road. The project length is approximately 4,500 feet. The actions by TxDOT and Federal agencies and the laws under which such actions were taken are described in the Final Environmental Assessment (EA) approved on July 16, 2015, the Finding of No Significant Impact (FONSI) issued on July 16, 2015, and other documents in the TxDOT project file. The EA, FONSI, and other documents in the TxDOT project file are available by contacting TxDOT at the address provided above or the TxDOT Houston District Office, 7600 Washington Avenue, Houston, Texas 77007; telephone (713) 802-5000.

20. Hurricane Lane/Lake Olympia Parkway from Fort Bend Parkway to Trammel-Fresno Road, Fort Bend County. This project would construct Hurricane Lane from its present terminus as a two-lane, undivided urban section from Trammel-Fresno Road to a point along Lake Olympia Parkway approximately 685 feet east of Fort Bend Parkway. Construction of two linear detention ponds is included. The typical cross-sections incorporate two 11-foot travel lanes with 1-foot curb offsets on Hurricane Lane and Lake Olympia Parkway. The intersections of Hurricane Lane at Trammel-Fresno Road and of Lake Olympia Parkway at Fort Bend Parkway would each consist of a four-lane divided roadway containing 11- to 12-foot lanes and a 0- to 24-foot raised landscaped median. A 10-foot wide shared use path is proposed along the west side of Hurricane Lane and along the southern side of Lake Olympia Parkway. A 5-foot wide sidewalk segment is proposed on the east side of Hurricane Lane at its southern terminus at Trammel-Fresno Road and along the north side of Lake Olympia Parkway's transitional section to four lanes. The project length is approximately 1.5 mile. The actions by TxDOT and Federal agencies and the laws under which such actions were taken are described in the Final Environmental Assessment (EA) approved on August 24, 2015, the Finding of No Significant Impact (FONSI) issued on August 24, 2015, and other documents in the TxDOT project file. The EA, FONSI, and other documents in the TxDOT project file are available by contacting TxDOT at the address provided above or the TxDOT Houston District Office at 7600 Washington Avenue, Houston, Texas 77007; telephone (713) 802-5000.

21. FM 2978, from FM 1488 to Conroe-Huffsmith Road, Montgomery County. This project involves widening the existing two-lane undivided roadway to a four-lane roadway with an intermittent two-way turn lane. The proposed facility consists of four travel lanes (two 11-foot lanes in each direction), five-foot outside shoulders which would accommodate bicycles, and a four-foot sidewalk in various locations on the east side of FM 2978. The project includes the construction of four detention ponds. The project is approximately 6.5 miles in length. The actions by TxDOT and Federal agencies and the laws under which such actions were taken are described in the Final Environmental Assessment (EA) approved on December 1, 2015, the Finding of No Significant Impact (FONSI) issued on December 1, 2015, and other documents in the TxDOT project file. The EA, FONSI, and other documents in the TxDOT project file are available by contacting TxDOT at the address provided above or the TxDOT Houston District Office, 7600 Washington Avenue, Houston, Texas 77007; telephone (713) 802-5000.

22. FM 528 from SH 35B (Gordon Street) to SH 6, Brazoria County. This project extends FM 528 from SH 35B (Gordon Street) to SH 6. The proposed undivided, curb and gutter facility would include two 14-foot lanes (one 12-foot lane in each direction), accommodations for bicycle traffic and a five-foot sidewalk on the north side of FM 528. The proposed facility would also include a grade separation at the Burlington Northern Santa Fe (BNSF) Railway, new signalized intersections at SH 35B (Gordon Street) and SH 6, and left turn lanes at SH 35B (Gordon Street). The project is approximately 0.9 miles in length. The actions by TxDOT and Federal agencies and the laws under which such actions were taken are described in the Final Environmental Assessment (EA) approved on February 5, 2016, the Finding of No Significant Impact (FONSI) issued on February 5, 2016, and other documents in the TxDOT project file. The EA, FONSI, and other documents in the TxDOT project file are available by contacting TxDOT at the address provided above or the TxDOT Houston District Office, 7600 Washington Avenue, Houston, Texas 77007; telephone (713) 802-5000.

23. IH 10 Exit 365 EB Ramp Relocation, from 0.25 miles west of Rio Grande Street to SH 163, in Crockett County. The project is designed to relocate the IH10 eastbound exit ramp 365 approximately 0.8 miles west of the existing location, construct new frontage roadway to tie into the new exit ramp, and includes the construction of a new bridge over Johnson Draw. The project will convert the traffic on the existing frontage road from two-way traffic to one-way traffic. Total project length is approximately 1 mile. The actions by TxDOT and Federal agencies and the laws under which such actions were taken are described in the Categorical Exclusion Determination approved on June 15, 2018, and other documents in the TxDOT project file. The Categorical Exclusion Determination and other documents in the TxDOT project file are available by contacting TxDOT at the address provided above or the TxDOT San Angelo District Office, 4502 Knickerbocker Road, San Angelo, Texas 76904; telephone (325) 947-9205.

24. U.S. 380 from State Loop (SL) 288 to West of County Road (CR) 26 in Denton County, Texas. The proposed improvements would include reconstruction and widening of existing U.S. 380 from a four-lane undivided rural to a six-lane divided urban roadway consisting of two 11- to 12-foot wide inside travel lanes and 14-foot wide outside shared-use lanes (for bicycle accommodation), with raised medians and curb and gutter in each direction. The proposed roadway would also include intersection improvements and left and right turn lanes at designated locations. In addition, interchange improvements are proposed including five new grade separations. A minimum of five-foot sidewalks would be located along the outer lanes of the roadway. The length of the proposed project is approximately 14.2 miles. The purpose of the proposed project is to improve mobility by increasing capacity and reducing traffic congestion, and to meet current design standards. The actions by TxDOT and Federal agencies and the laws under which such actions were taken are described in the Final Environmental Assessment (EA) approved on June 29, 2018, Finding of No Significant Impact (FONSI) issued on June 29, 2018, and other documents in the TxDOT project file. The EA and other documents in the TxDOT project file are available by contacting TxDOT at the address provided above or the TxDOT Dallas District Office, 4777 E Highway 80, Mesquite, TX 75150; telephone (214) 320-6100.

25. FM 179 from 800 feet north of SH 114 to Donald Preston Drive in Lubbock County. TxDOT, Lubbock District, proposes to widen approximately 4.1 miles of the existing FM 179 in Lubbock, Texas. Interim improvements would consist of a five lane suburban section with four 11-foot wide lanes, two eight-foot wide shoulders, and a 14-foot wide center left turn lane. The ultimate seven lane section would include an additional travel lane in each direction, sidewalks, shoulders and curb-and-gutter drainage. The actions by TxDOT and Federal agencies and the laws under which such actions were taken are described in the Final Environmental Assessment (EA) approved on February 24, 2016 the Finding of No Significant Impact (FONSI) issued on February 24, 2016 and other documents in the TxDOT project file. The EA, FONSI and other documents in the TxDOT project file are available by contacting TxDOT at the address provided above or the TxDOT Lubbock District Office, 135 Slaton Road, Lubbock, Texas 79404; telephone (806) 745-4411.

26. Erskine Street from Texas Tech Parkway to Indiana Avenue in Lubbock County. TxDOT, Lubbock District, proposes to widen and improve Erskine Street with new right of way to be added at various locations on both sides of the roadway. Improvements would consist of a five-lane suburban section with two 11-foot wide lanes, two 13.5-foot wide lanes, and a 14-foot wide center left turn lane. An additional 11-foot wide right turn lane would be located at the northwest corner of the project area leading up to the terminus at Texas Tech Boulevard. Additional sidewalks would be added on the north side of the project at the locations where sidewalks are not present. The project length is approximately 1 mile in length. The actions by TxDOT and Federal agencies and the laws under which such actions were taken are described in the Final Environmental Assessment (EA) approved on April 7, 2016 the Finding of No Significant Impact (FONSI) issued on April 7, 2016 and other documents in the TxDOT project file. The EA, FONSI and other documents in the TxDOT project file are available by contacting TxDOT at the address provided above or the TxDOT Lubbock District Office, 135 Slaton Road, Lubbock, Texas 79404; telephone (806) 745-4411.

27. SL 88 from 0.5 miles north of U.S. 62/82 to 0.5 miles east of U.S. 87 in Lubbock County. TxDOT, Lubbock District, proposes to construct a segment (segment three) of a new loop around Lubbock along a portion of the existing Farm-to-Market Road (FM) 1585. The project length is approximately 12.4 miles in length. The proposed improvements would convert the existing two-lane rural FM 1585 roadway section to an access-controlled, four-lane divided freeway section with frontage roads and ramps. The improved roadway has been designated as SL 88. Multiple interchanges are proposed at the crossroad locations. The actions by TxDOT and Federal agencies and the laws under which such actions were taken are described in the Final Environmental Assessment (EA) approved on February 27, 2018, the Finding of No Significant Impact (FONSI) issued on February 27, 2018 and other documents in the TxDOT project file. The EA, FONSI and other documents in the TxDOT project file are available by contacting TxDOT at the address provided above or the TxDOT Lubbock District Office, 135 Slaton Road, Lubbock, Texas 79404; telephone (806) 745-4411.

28. U.S. 59 from 3.0 miles south of U.S. 287 to 3.4 miles north of U.S. 287 in Polk County. TxDOT, Lufkin District, proposes to build a new location controlled access relief route west of U.S. 59 in the town of Corrigan, Texas. The proposed relief route would provide a four lane controlled access freeway section, ramps, and grade separations on the north and south ends at the Union Pacific Railroad and U.S. 287. Additional bridges would be construction over several creek crossings and Union Springs Road. The proposed project is approximately 6.4 miles in length. The purpose of the project is to bring U.S. 59 in the Corrigan area up to current interstate design standards by making U.S. 59 a controlled access roadway within the project limits and reduce congestion and increase mobility. The actions by TxDOT and Federal agencies and the laws under which such actions were taken are described in the Final Environmental Assessment (EA) approved on January 28, 2018, the Finding of No Significant Impact (FONSI) issued on March 8, 2018, and other documents in the TxDOT project file. The EA, FONSI and other documents in the TxDOT project file are available by contacting TxDOT at the address provided above or the TxDOT Lufkin District Office, 1805 North Timberland Drive, Lufkin, Texas 75901; telephone (936) 634-4433.

29. Farm-To-Market (FM) 1570 from State Highway (SH) 66 to United States Highway (US) 380 in Hunt County. The proposed action is the construction of a two-lane roadway from the terminus of Farm-to-Market Road (FM) 1570 at State Highway (SH) 66 north for a distance of 1.9 miles to U.S. 380. The project is located in Hunt County at the west edge of the city of Greenville. The proposed project would provide two 12-foot wide travel lanes with ten-foot outside paved shoulders within an approximate 264-foot wide right-of-way (ROW). The project end points at SH 66 and U.S. 380, as well as intersections with intervening roadways, would be at-grade. The actions by TxDOT and Federal agencies and the laws under which such actions were taken are described in the Final “Assessment (EA) approved on June 17, 2015, the Finding of No Significant Impact (FONSI) issued on June 24, 2015, and other documents in the TxDOT project file. The EA, FONSI and other documents in the TxDOT project file are available by contacting TxDOT at the address provided above or the TxDOT Paris District Office, 1365 North Main Street, Paris, Texas 75460; telephone (903) 737-9300.

30. Spur 248 from 1.75 Miles West of FM 848 (Old Omen Road), East to SH 64, Smith County. The proposed project would widen Spur 248 to a 4-lane facility with a flush median between Old Omen Road and SH 64. The proposed design would consist of a curb and gutter section with two 12-foot travel lanes, two 12-foot outside lanes with a 5-foot outside bike lane, and a 14-foot flush median within a ROW that would vary 140 to 230 feet in width. The length of the project is 2.17 miles. The actions by TxDOT and Federal agencies and the laws under which such actions were taken are described in the Final Environmental Assessment (EA) approved on January 28, 2015, the Finding of No Significant Impact (FONSI) issued on January 30, 2015, and other documents in the TxDOT project file. The EA, FONSI and other documents in the TxDOT project file are available by contacting TxDOT at the address provided above or the TxDOT Tyler District Office, 2709 W Front Street, Tyler, Texas 75702; telephone (903) 510-9267.

31. FM 2206 from SH 42 to SL 281, Gregg County. The proposed project is a roadway widening and improvement project. Proposed improvements would widen approximately 3.7 miles of FM 2206 from an existing two-lane road to a four-lane divided highway corridor. However, the curve located between Cox Road and Jordan Valley Drive would be straightened and the road would be in a new alignment in this section. The actions by TxDOT and Federal agencies and the laws under which such actions were taken are described in the Final Environmental Assessment (EA) approved on December 12, 2016, the Finding of No Significant Impact (FONSI) issued on December 20, 2016, and other documents in the TxDOT project file. The EA, FONSI and other documents in the TxDOT project file are available by contacting TxDOT at the address provided above or the TxDOT Tyler District Office, 2709 W Front Street, Tyler, Texas 75702; (903) 510-9267.

32. FM 2493 from FM 2813 in Gresham, south to FM 346 in Flint, Smith County. FM 2493 would be widened from its existing 2-lane highway configuration to a 4-lane highway divided by a flush median (continuous two-way, left-turn lane) in the center. It includes four 12-ft. vehicle lanes (two in each direction), two 4-ft. striped bicycle lanes (one in each direction) plus 2-ft. curb-and-gutter offsets, and a 16-ft. wide flush median. The length of the project is 2.5 miles. The actions by TxDOT and Federal agencies and the laws under which such actions were taken are described in the Final Environmental Assessment (EA) approved on July 20, 2015, the Finding of No Significant Impact (FONSI) issued on July 31, 2015, and other documents in the TxDOT project file. The EA, FONSI, and other documents in the TxDOT project file are available by contacting TxDOT at the address provided above or the TxDOT Tyler District Office, 2709 W Front Street, Tyler, Texas 75702; telephone (903) 510-9267.

33. U.S. 59 from FM 2919 to FM 710 in Wharton County. TxDOT, Yoakum District, proposes to upgrade U.S. 59 through Wharton County to Interstate Highway (IH) standards. The proposed project would consist of a four-lane divided freeway facility (two 12-foot lanes in each direction) with 12-foot inside shoulders and 12-foot outside shoulders divided by a concrete traffic barrier. The freeway facility would have continuous frontage roads (two 12-foot lanes in each direction) with 10-foot outside shoulders and 4-foot inside shoulders. Within the proposed construction limits, the intersections along existing U.S. 59 would be given access to frontage roads or in some areas overpasses would be built. The proposed construction area is approximately 39.5 miles in length. The actions by TxDOT and Federal agencies and the laws under which such actions were taken are described in the Final Environmental Assessment (EA) approved on May 25, 2017, the Finding of No Significant Impact (FONSI) issued on May 25, 2017 and other documents in the TxDOT project file. The EA, FONSI and other documents in the TxDOT project file are available by contacting TxDOT at the address provided above or the TxDOT Yoakum District Office, 403 Huck Street, Yoakum, Texas 77995; telephone (361) 293-4300.

34. U.S. 59 from Business 59 south of El Campo to SH 71 in Wharton County. TxDOT, Yoakum District, proposes to provide frontage roads and convert the existing lanes of U.S. 59 in El Campo to a controlled access facility that meets Interstate standards. Interchanges and/or slip ramps would be included to provide necessary access to and around the facility. The proposed project length is 2.6 miles. The actions by TxDOT and Federal agencies and the laws under which such actions were taken are described in the Final Environmental Assessment (EA) approved on June 2, 2015, the Finding of No Significant Impact (FONSI) issued on June 2, 2015 and other documents in the TxDOT project file. The EA, FONSI and other documents in the TxDOT project file are available by contacting TxDOT at the address provided above or the TxDOT Yoakum District Office, 403 Huck Street, Yoakum, Texas 77995; telephone (361) 293-4300.

35. U.S. 59 from SH 71 to Business 59 north of El Campo in Wharton County. TxDOT, Yoakum District, proposes to provide frontage roads and convert the existing lanes of U.S. 59 in El Campo to a controlled access facility that meets Interstate standards. Interchanges and/or slip ramps would be included to provide necessary access to and around the facility. The proposed project length is 3.1 miles. The actions by TxDOT and Federal agencies and the laws under which such actions were taken are described in the Final Environmental Assessment (EA) approved on February 19, 2016, the Finding of No Significant Impact (FONSI) issued on February 19, 2016 and other documents in the TxDOT project file. The EA, FONSI and other documents in the TxDOT project file are available by contacting TxDOT at the address provided above or the TxDOT Yoakum District Office, 403 Huck Street, Yoakum, Texas 77995; telephone (361) 293-4300.

36. FM 457 at the Gulf Intracoastal Waterway (GIWW) in Matagorda County. TxDOT, Yoakum District, proposes to replace the FM 457 swing bridge that crosses the GIWW near Sargent, Texas. The proposed project would replace the existing, at-grade, pontoon barge swing span and approach spans with a new fixed-span, high-clearance structure with spiral approaches. The actions by TxDOT and Federal agencies and the laws under which such actions were taken are described in the Final Environmental Assessment (EA) approved on March 1, 2016 the Finding of No Significant Impact (FONSI) issued on March 1, 2016 and other documents in the TxDOT project file. The EA, FONSI and other documents in the TxDOT project file are available by contacting TxDOT at the address provided above or the TxDOT Yoakum District Office, 403 Huck Street, Yoakum, Texas 77995; telephone (361) 293-4300.

37. State Highway 31 Relief Route from 3.2 Miles West of FM 2555 to 3.7 Miles East of Interstate Highway 45 in Corsicana, Navarro County. TxDOT, Dallas District, proposes to construct a four-lane divided relief route on new location. The proposed roadway would be a grade-separated facility with frontage roads. The length of the preferred alignment is 14 miles. The actions by TxDOT and Federal agencies and the laws under which such actions were taken are described in the Final Environmental Assessment (EA) approved on December 18, 2014 the Finding of No Significant Impact (FONSI) issued on December 18, 2014 and other documents in the TxDOT project file. The EA, FONSI and other documents in the TxDOT project file are available by contacting TxDOT at the address provided above or the TxDOT Dallas District Office, 4777 E Highway 80, Mesquite, TX 75150; telephone (214) 320-4480.

Authority: 23 U.S.C. 139(l)(1).

Issued on: September 19, 2018.
Michael T. Leary,
Director, Planning and Program Development, Federal Highway Administration.

[FR Doc. 2018-20801 Filed 9-24-18; 8:45 am]

BILLING CODE 4910-22-P